Title 3—

The President

Proclamation 9916 of August 23, 2019

Women's Equality Day, 2019

By the President of the United States of America

A Proclamation

On Women's Equality Day, we commemorate the 99th anniversary of the adoption of the 19th Amendment as part of the United States Constitution, which secured for women the right to vote. This historic event was the culmination of the decades-long struggle of courageous suffragists determined to ensure the right of women to shape the course of our Republic through the ballot box. On Women's Equality Day, we commemorate the efforts of those groundbreaking activists, celebrate the remarkable achievements of women, and reaffirm our commitment to equality under the law for all Americans.

My Administration is working every day to empower and promote women, and to facilitate their success. Thanks to our economic policies, including the enactment of the Tax Cuts and Jobs Act and the elimination of unnecessary and burdensome regulations, the unemployment rate for women recently fell to its lowest rate in 65 years. We also are fighting for policies that recognize the demands and challenges faced by working parents so that mothers can better provide for their families and thrive in the labor force. My Administration worked to double the child tax credit, protect the child and dependent care credit, and develop a tax credit for employers who offer paid family and medical leave. We continue to call upon the Congress to pass a nationwide paid family leave program. Additionally, we are working to break down the barriers faced by women in science, technology, engineering, and math (STEM) fields by expanding apprenticeships and vocational education. This year, my Administration launched the Women's Global Development and Prosperity (W-GDP) Initiative, which will reach 50 million women in the developing world by 2025. The W-GDP Initiative focuses on three pillars: improving access to quality education and skills training; promoting women's entrepreneurship and increasing access to capital, markets, technical assistance, and mentorship; and identifying and reducing the legal, regulatory, and cultural barriers that hinder the participation of women in the global economy.

As we celebrate Women's Equality Day, we honor the trailblazing American women who have fought for, and achieved, incredible gains in equality since the ratification of the 19th Amendment. Their hard-fought accomplishments have strengthened our economy, our communities, and our families, and have enriched the American spirit. Their resolve, innovation, leadership, passion, and compassion have changed the world and continue to inspire future generations of women.

NOW, THEREFORE, I, DONALD J. TRUMP, President of the United States of America, by virtue of the authority vested in me by the Constitution and the laws of the United States, do hereby proclaim August 26, 2019, as Women's Equality Day. I call upon the people of the United States to celebrate the achievements of women and observe this day with appropriate programs and activities.

IN WITNESS WHEREOF, I have hereunto set my hand this twenty-third day of August, in the year of our Lord two thousand nineteen, and of the Independence of the United States of America the two hundred and forty-fourth.

[FR Doc. 2019-18684

Filed 8-27-19; 8:45 am]

Billing code 3295-F9-P